FEDERAL COMMUNICATIONS COMMISSION

Radio Broadcasting Services; AM or FM Proposals To Change the Community of License

AGENCY: Federal Communications Commission.

ACTION: Notice.

SUMMARY: The following applicants filed AM or FM proposals to change the community of license: AGM CALIFORNIA, Station KGFM, Facility ID 36234, BPH-20090710ASB, From BAKERSFIELD, CA, To WASCO, CA; AMY MEREDITH, Station NONE, Facility ID 160577, BMP-20090630AFY, From DALHART, TX, To VEGA, TX; ANDERSON RADIO BROADCASTING, INC., Station KZXT, Facility ID 164302, BMPH-20080904ABB, From EUREKA, MT, To HUNGRY HORSE, MT; BRANTLEY BROADCAST ASSOCIATES, LLC, Station WEZZ, Facility ID 40900, BP-20081216BKH, From MONROEVILLE, AL, To BRANTLEY, AL; CALVARY CHAPEL OF COSTA MESA, INC., Station WCJL, Facility ID 91951, BPED-20090422AAD, From MORGANTOWN, IN, To PARAGON, IN; CALVARY CHAPEL OF CRAWFORDSVILLE, INC., Station WDVL, Facility ID 92984, BMPED-20090612AJO, From DANVILLE, IN, To WAYNETOWN, IN; CHAPIN ENTERPRISES, LLC, Station KRKR, Facility ID 54707, BMPH-20081120AFR, From VALLEY, NE, To WAVERLY, NE; COCHISE MEDIA LICENSES LLC, Station KCYA, Facility ID 166055, BPH-20090702ABF, From KAYCEE, WY, To ROLLING HILLS, WY; CSN INTERNATIONAL, Station WJIK, Facility ID 90846, BMPED-20090520ACR, From MONROEVILLE, AL, To FULTON, AL; EDUCATIONAL MEDIA FOUNDATION, Station WORI, Facility ID 38459, BPED-20090715AAI, From DELHI HILLS, OH, To HARRISON, OH; FAMILY LIFE MINISTRIES, INC., Station WCOU, Facility ID 20634, BPED-20090615AFA, From WARSAW, NY, To ATTICA, NY; GOLD COAST BROADCASTING LLC, Station KFYV, Facility ID 7744, BPH-20090710ASH, From OJAI, CA, To CARPINTERIA, CA; HAWKEYE COMMUNICATIONS, INC., Station KCSI, Facility ID 26456, BMPH-20081020AGI, From TREYNOR, IA, To VILLISCA, IA; HOLY FAMILY COMMUNICATIONS, Station WLOF, Facility ID 31812, BPH-20090615AFG, From ATTICA, NY, To ELMA, NY; LINDA C. CORSO, Station KRDE, Facility ID 37577, BPH-20070502AFL, From GLOBE, AZ, To SAN CARLOS, AZ; POLNET COMMUNICATIONS, LTD., Station WEEF, Facility ID 72957, BMJP-20050118AEC, From HIGHLAND PARK, IL, To DEERFIELD, IL; RINCON BROADCASTING LS LLC, Station KSBL, Facility ID 35592, BPH-20090710ASO, From CARPINTERIA, CA, To OJAI, CA; ROY E. HENDERSON, Station WBNZ, Facility ID 57414, BPH-20090713AAG, From BEULAH, MI, To FRANKFORT, MI,; ROY E. HENDERSON, Station WOUF, Facility ID 14646, BPH-20090713AAH, From FRANKFORT, MI, To BEULAH, MI; SOVEREIGN CITY RADIO SERVICES, LLC, Station WZRK, Facility ID 61389, BP-20090721ABY, From LAKE GENEVA, WI, To NORTHBROOK, IL; STEPHEN R. PETERS, Station WHAW, Facility ID 63489, BP-20090715ACT, From WESTON, WV, To LOST CREEK, WV; STEPHEN R. PETERS, Station WOTR, Facility ID 1103, BPH-20090715ADB, From LOST CREEK, WV, To WESTON, WV; TED W. AUSTIN, JR., Station KRID, Facility ID 164126, BMPH-20080404AEF, From ASHTON, ID, To UCON, ID; VERNON R. BALDWIN, INC., Station WNLT, Facility ID 69986, BPH-20090715AAL, From HARRISON, OH, To DELHI HILLS, OH; WESTERN FAMILY TELEVISION, INC., Station NEW, Facility ID 177234, BMPED-20090722ACK, From GARDINER, MT, To ASHTON, ID.

DATES: Comments may be filed through October 13, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E9-19527 Filed 8-13-09; 8:45 am]

BILLING CODE 6712-01-P